DEPARTMENT OF DEFENSE

Department of the Navy

[Docket No. USN-2007-0057]

Proposed Collection, Comment Request

AGENCY: Marine Corps Junior Reserve Officer's Training Corps (MCJROTC), DoD.

ACTION: Notice.

SUMMARY: In compliance with 44 U.S.C. Sec. 3506(c)(2)(A) of the Paperwork Reduction Act of 1995, Headquarters, U.S. Marine Corps announces a proposed extension of an approved public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by February 26, 2008.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request additional information or to obtain a copy of the proposal and associated collection instruments, write to Commanding General, Training and Education Command (C46JR), MCCDC, 1019 Elliott Road, Quantico, VA 22134-5001, or telephone Mr. Robert Davis at (703) 784-0478.

FORM TITLE AND OMB NUMBER: Individual MCJROTC Instructor Evaluation Summary; NAVMC 10942; OMB Control Number 0703-0016.

NEEDS AND USES: This form provides a written record of the overall performance of duty of MCJROTC instructors who are responsible for implementing the MCJROTC curriculum. The Individual MCJROTC Instructor Evaluation Summary is completed by principals to evaluate the effectiveness of individual MCJROTC instructors. The form is further used as a performance related counseling tool and as a record of service performance to document performance and growth of individual MCJROTC instructors. Evaluating the performance of instructors is essential in ensuring that they provide quality training.

Affected Public: Individuals or households.

Annual Burden Hours: 225.

Number of Respondents: 450.

Responses per Respondent: 1.

Average Burden per Response: 30 minutes.

Frequency: Annually.

SUPPLEMENTARY INFORMATION:

Summary of Information Collection

This form provides a written record of the overall performance of duty of MCJROTC instructors who are responsible for implementing the MCJROTC curriculum. The Individual MCJROTC Instructor Evaluation Summary is completed by principals to evaluate the effectiveness of individual MCJROTC instructors.

The form is further used as a performance related counseling tool and as a record of service performance to document performance and growth of individual MCJROTC instructors. Evaluating the performance of instructors is essential in ensuring that they provide quality training.

Dated: November 30, 2007.
Patricia L. Toppings,
Alternate OSD Federal Register Liaison Officer, Department of Defense.

[FR Doc. E7-25229 Filed 12-27-07; 8:45 am]

BILLING CODE 5001-06-P